CONSUMER PRODUCT SAFETY COMMISSION

Sunshine Act Meetings

Time and Date: Thursday, September 17, 2009, 1 p.m.

Place: Room 714, Bethesda Towers, 4330 East West Highway, Bethesda, Maryland 20814.

Status: Closed to the Public.

Matter to be Considered:

Internal Procedures

The Commission will discuss matters relating to internal procedures for Commission decisionmaking.

For a recorded message containing the latest agenda information, call (301) 504-7948.

Contact Person for More Information: Todd A. Stevenson, Office of the Secretary, U.S. Consumer Product Safety Commission, 4330 East West Highway. Bethesda, MD 20814, (301) 504-7923.

Dated: September 15, 2009.
Todd A. Stevenson,
Secretary.

[FR Doc. E9-22651 Filed 9-18-09; 8:45 am]

BILLING CODE M